DEPARTMENT OF THE INTERIOR

Bureau of Land Management

[AZ-952-09-1420-00]

Arizona State Office, 222 North Central Avenue, Phoenix, Arizona 85004, Arizona; Notice of Filing of Plats of Survey

April 4, 2000.

1. The plats of survey of the following described land were officially filed in the Arizona State Office, Phoenix, Arizona on the dates indicated:

A plat, in two sheets, representing the dependent resurvey of a portion of the south boundary and a portion of the subdivisional lines, and the subdivision of sections 28 and 29, Township 18 North, Range 9 East, of the Gila and Salt River Meridian, Arizona, accepted February 3, 2000 and officially filed February 16, 2000.

This plat was prepared at the request of the United States Forest Service.

A plat representing the corrective survey of a portion of the Hopi and Navajo Partition line in unsurveyed Township 31 North, Range 12 East, of the Gila and Salt River Meridian, Arizona, accepted March 30, 2000 and officially filed April 7, 2000.

This plat was prepared at the request of the Bureau of Indian Affairs, Phoenix Area Office.

A plat, in ten sheets, representing the survey of the legal descriptive boundary of the Table Top Wilderness Area in Townships 7 and 8 South, Ranges 1, 2, and 3 East, of the Gila and Salt River Meridian, Arizona, accepted March 1, 2000 and officially filed March 16, 2000.

This plat was prepared at the request of the Bureau of Land Management, Arizona State Office.

A plat representing the dependent resurvey of portions of the west boundary and subdivisional lines, the subdivision of section 19, and a metes-and-bounds survey in section 19, Township 18 South, Range 14 East, of the Gila and Salt River Meridian, Arizona, accepted February 16, 2000 and officially filed February 25, 2000.

This plat was prepared at the request of the Bureau of Land Management, Arizona State Office.

These plats will immediately become the basic records for describing the land for all authorized purposes. These plats have been placed in the open files and are available to the public for information only.

2. All inquires relation to these lands should be sent to the Arizona State Office, Bureau of Land Management, 222 N. Central Avenue, P.O. Box 1552, Phoenix, Arizona 85001-1552.

Kenny D. Ravnikar,
Chief Cadastral Surveyor of Arizona.

[FR Doc. 00-9226 Filed 4-12-00; 8:45 am]

BILLING CODE 4310-32-P